DEPARTMENT OF TRANSPORTATION

Federal Aviation Administration

14 CFR Part 39

[Docket No. 99-SW-78-AD]

Airworthiness Directives; Eurocopter France Model AS 332C, L, L1, and L2 Helicopters

AGENCY: Federal Aviation Administration, DOT.

ACTION: Supplemental notice of proposed rulemaking (SNPRM); reopening of comment period.

SUMMARY: This SNPRM revises an earlier proposed airworthiness directive (AD) for Eurocopter France (ECF) Model AS 332C, L, L1, and L2 helicopters that would have superseded an existing AD. That AD currently requires conducting a filter clogging warning test, and if necessary, replacing a blocked fuel filter element with an airworthy fuel filter element. The proposed AD would have required the same corrective actions as the existing AD and would have added another fuel filter part number to the applicability. That proposal was prompted by the discovery of blocked fuel filter by-pass valves. This SNPRM revises the proposed rule by: referencing a revision to the previously referenced service information; adding a fuel filter part number to the applicability; and clarifying other provisions throughout the AD. The actions specified by this SNPRM are intended to prevent power loss due to fuel starvation, engine flameouts, and a subsequent forced landing.

DATES: Comments must be received on or before October 29, 2001.

ADDRESSES: Submit comments in triplicate to the Federal Aviation Administration (FAA), Office of the Regional Counsel, Southwest Region, Attention: Rules Docket No. 99-SW-78-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

The service information referenced in the SNPRM may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas.

FOR FURTHER INFORMATION CONTACT: Paul Madej, Aviation Safety Engineer, FAA, Rotorcraft Directorate, Rotorcraft Standards Staff, Fort Worth, Texas 76193-0110, telephone (817) 222-5125, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this document may be changed because of the comments received.

Comments are specifically invited on the overall regulatory, economic, environmental, and energy aspects of the proposed rule. All comments submitted will be available in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 99-SW-78-AD.” The postcard will be date stamped and returned to the commenter.

Availability of SNPRMs

You may obtain a copy of this SNPRM by submitting a request to the FAA, Office of the Regional Counsel, Southwest Region, Attention: Rules Docket No. 99--SW-78-AD, 2601 Meacham Blvd., Room 663, Fort Worth, Texas 76137.

Discussion

A proposal to amend 14 CFR part 39 for ECF Model AS332C, L, L1, and L2 helicopters was published as a Notice of Proposed Rulemaking (NPRM) in the Federal Register on April 14, 2000 (65 FR 20104). That NPRM proposed to supersede AD 99-13-02, Amendment 39-11195 (64 FR 32399, June 17, 1999), which applies to ECF Model AS 332C, L, L1, and L2 helicopters. That NPRM would have continued to require the actions specified in AD 99-13-02 but would have added a fuel filter part number to the applicability. That NPRM was prompted by the discovery of blocked fuel filter by-pass valves. That condition, if not corrected, could result in power loss due to fuel starvation, engine flameouts, and a subsequent forced landing.

Since the issuance of that NPRM, Eurocopter France has issued Alert Service Bulletin No. 01.00.56, dated January 16, 2001 (ASB), which changes current compliance and operational procedures and adds a part number to the affected fuel filters. The Direction Generale De L'Aviation Civile, which is the airworthiness authority for France, classified this ASB as mandatory and issued AD's 1998-318-071(A)R6 and 1998-319-012(A)R6, both dated April 18, 2001, to ensure the continued airworthiness of these helicopters in France. The FAA has determined that the actions and all the fuel filter part numbers specified in the SB should be included in this proposal. The word “practicable” in the emergency procedure in paragraph (b) of the AD would also be changed to “possible” by this SNPRM to indicate that if both fuel filter clogged lights illuminate, the pilot should land as soon as possible. The word “jammed” would also be replaced by “blocked” throughout the AD.

Since this change expands the scope of the originally proposed rule, the FAA has determined that it is necessary to reopen the comment period to provide additional opportunity for public comment.

The FAA estimates that one helicopter of U.S. registry would be affected by the proposed AD, that it would take approximately 3 work hours to accomplish the proposed actions, and that the average labor rate is $60 per work hour. Based on these figures, the total cost impact of the proposed AD on U.S. operators is estimated to be $180, assuming no valve would need to be replaced.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11195 (64 FR 32399, June 17, 1999) and by adding a new airworthiness directive to read as follows:

Eurocopter France: Docket No. 99-SW-78-AD. Supersedes AD 99-13-02, Amendment 39-11195, Docket No. 99-SW-17-AD.

Applicability: Eurocopter France Model AS 332C, L, L1, and L2 helicopters, with any of the following part-numbered fuel filters installed, certificated in any category:

Vendor part number | Eurocopter France part number
-4020P25 | (704A44620031)
-4020P25-1 | (704A44620034)
-4020P25-2 | (704A44620035)
-4020P25-3 | (704A44620036)
-4020P25-4 | (704A44620044)
-4020P25-11 | (704A44620037)

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Note 2: This AD does not apply to aircraft modified per Eurocopter MOD 0726087 or in compliance with Eurocopter AS 332 Service No. 28.00.38, dated March 15, 2001.

Compliance: Required as indicated, unless accomplished previously.

To prevent power loss due to fuel starvation, an engine flameout, and a subsequent forced landing, accomplish the following:

(a) Within 25 hours time-in-service (TIS), after any subsequent flight during which either fuel filter pre-clogging caution light illuminates, and after each installation of a new fuel filter assembly or filter element:

(1) Verify that the fuel filter by-pass valve (valve) correctly closes for each engine fuel filter in accordance with the Accomplishment Instructions, paragraph 2.B.1. of Eurocopter France Alert Service Bulletin Number 01.00.56 Revision 1, dated March 15, 2001 (ASB).

(2) Conduct a filter pre-clogging warning test in accordance with paragraph 2.B.2. of the ASB.

(3) If a blocked fuel filter element (open or closed) is detected during the pre-clogging warning test, clean the filter assembly in accordance with paragraph 2.B.4. of the ASB. After cleaning the filter assembly, repeat the requirements of paragraph (a)(2) of this AD.

(4) When the pre-clogging warning test result is satisfactory, repeat the requirements of paragraph (a)(1) of this AD.

(b) Within 25 hours TIS, insert a copy of this AD into the Rotorcraft Flight Manual (RFM) or make the following pen and ink addition to the RFM Emergency Procedure for fuel filter clogged caution light illumination: “If both fuel filter clogged caution lights illuminate, land as soon as possible.”

(c) If both filter clogged caution lights illuminate in flight, after landing, either:

(1) Accomplish the requirements of paragraphs (a)(1) through (a)(4) of this AD before further flight, or,

(2) Replace both fuel filter elements with airworthy fuel filter elements and conduct a one-time direct flight to a location where the requirements of paragraphs (a)(1) through (a)(4) of this AD can be accomplished before further flight.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Manager, Regulations Group.

(e) Special flight permits will not be issued.

(f) The inspections shall be done in accordance with the Accomplishment Instructions, paragraphs 2.B.1, 2.B.2., and 2.B.4. of Eurocopter France Alert Service Bulletin No. 01.00.56 Revision 1, dated March 15, 2001. This incorporation by reference was approved by the Director of the Federal Register in accordance with 5 U.S.C. 552(a) and 1 CFR part 51. Copies may be obtained from American Eurocopter Corporation, Technical Support, 2701 Forum Drive, Grand Prairie, Texas 75053-4005. Copies may be inspected at the FAA, Office of the Regional Counsel, Southwest Region, 2601 Meacham Blvd., Room 663, Fort Worth, Texas; or at the Office of the Federal Register, 800 North Capitol Street, NW., suite 700, Washington, DC.

Note 4: The subject of this AD is addressed in Direction Generale De L'Aviation Civile (France) AD's 1998-318-071(A)R6 and 1998-319-012(A)R6, both dated April 18, 2001.

Issued in Fort Worth, Texas, on August 17, 2001.
Eric Bries,
Acting Manager, Rotorcraft Directorate, Aircraft Certification Service.

[FR Doc. 01-21753 Filed 8-28-01; 8:45 am]

BILLING CODE 4910-13-U